DEPARTMENT OF ENERGY

Federal Energy Regulatory Commission

Notice of Intent To File Application for a New License

July 25, 2002.

Take notice that the following notice of intent has been filed with the Commission and is available for public inspection:

a. Type of filing: Notice of Intent to File an Application for New License.

b. Project No: 2155.

c. Date filed: July 12, 2002.

d. Submitted By: Pacific Gas and Electric Company.

e. Name of Project: Chili Bar Project.

f. Location: Project is located on the South Fork of the American River in El Dorado County, California.

g. Filed Pursuant to: Section 15 of the Federal Power Act, 18 CFR 16.6.

h. Pursuant to Section 16.19 of the Commission's regulations, the licensee is required to make available the information described in Section 16.7 of the regulations. Such information is available from Pacific Gas and Electric Company, Hydro Generation-License Compliance, Mail Code N11C, P.O. Box 770000, San Francisco, CA, 94105. Contact Mr. Richard Doble at (415) 973-4480.

I. FERC Contact: James Fargo, 202-219-2848. James.Fargo@Ferc.Gov.

j. Expiration Date of Current License: July 31, 2007.

k. Project Description: The Chili Bar project has one powerhouse with one generator with a rated capacity of 7,000 kilowatts.

l. The licensee states its unequivocal intent to submit an application for a new license for Project No. 2155. Pursuant to 18 CFR 16.9(b)(1) each application for a new license and any competing license applications must be filed with the Commission at least 24 months prior to the expiration of the existing license. All applications for license for this project must be filed by July 31, 2005.

A copy of the Notice of Intent is on file with the Commission and is available for public inspection. This filing may also be viewed on the web at http://www.ferc.gov using the “RIMS” link— select “Docket #” and follow the instructions (call 202-208-2222 for assistance). A copy is also available for inspection and reproduction at the address in the item above.

Linwood A. Watson, Jr.,
Deputy Secretary.

[FR Doc. 02-19306 Filed 7-30-02; 8:45 am]

BILLING CODE 6717-01-P